OFFICE OF THE UNITED STATES TRADE REPRESENTATIVE

Andean Trade Preference Act (ATPA), as Amended: Notice Regarding the 2004 and 2005 Annual Reviews

AGENCY: Office of the United States Trade Representative.

ACTION: Notice.

SUMMARY: The Office of the United States Trade Representative (USTR) received petitions in September 2005 to review certain practices in certain beneficiary developing countries to determine whether such countries are in compliance with the ATPA eligibility criteria. In a November 22, 2005 notice, USTR published a list of responsive petitions that were accepted for review. In a February 27, 2006 notice, USTR specified the results of the preliminary review of those petitions as well as the status of the petitions filed in 2004 that have remained under review. This notice provides an update on the status of those reviews.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Public Law 107-210), provides trade benefits for eligible Andean countries. Pursuant to section 3103(d) of the ATPDEA, USTR promulgated regulations (15 CFR part 2016) (68 FR 43922) regarding the review of eligibility of countries for the benefits of the ATPA, as amended.

In a Federal Register notice dated August 18, 2005, USTR initiated the 2005 ATPA Annual Review and announced a deadline of September 19, 2005 for the filing of petitions (69 FR 51138). Several of these petitions requested the review of certain practices in certain beneficiary developing countries regarding compliance with the eligibility criteria set forth in sections 203(c) and (d) and section 204(b)(6)(B) of the ATPA, as amended (19 U.S.C. 3203(c) and (d); 19 U.S.C. 3203(b)(6)(B)).

In a Federal Register notice dated November 22, 2005, USTR published a list of the responsive petitions filed pursuant to the announcement of the annual review (69 FR 65674). In a Federal Register notice dated February 27, 2006, USTR announced the results of the preliminary review by the Trade Policy Staff Committee (TPSC) of these petitions. The notice also indicated that the TPSC would continue to review the remaining 2004 petitions. The TPSC has now determined that the issues raised in the petition filed by LeTourneau of Peru, Inc. with respect to Peru have been resolved. Therefore, that petition does not require further action, and the TPSC is terminating its review.

With respect to the remaining petitions, the TPSC is modifying the schedule for this review, in accordance with 15 CFR 2016.2(b). This review will continue through December 31, 2006, which is the period that the ATPDEA is in effect. Following is the list of all petitions that remain under review:

Peru: Engelhard;

Peru: Princeton Dover;

Peru: Duke Energy;

Ecuador: AFL-CIO; Human Rights Watch; and US/LEAP;

Ecuador: Chevron Texaco.

Carmen Suro-Bredie,
Chairman, Trade Policy Staff Committee.

[FR Doc. E6-16421 Filed 10-3-06; 8:45 am]

BILLING CODE 3190-W6-P